DEPARTMENT OF LABOR

Employment and Training Administration

[TA-W-57,793]

GE Consumer Finance, a Division of the General Electric Company, Partnership Marketing Group, Schaumberg, IL; Dismissal of Application for Reconsideration

Pursuant to 29 CFR 90.18(C) an application for administrative reconsideration was filed with the Director of the Division of Trade Adjustment Assistance for workers at GE Consumer Finance, a division of The General Electric Company, Partnership Marketing Group, Schaumburg, Illinois. The application did not contain new information supporting a conclusion that the determination was erroneous, and also did not provide a justification for reconsideration of the determination that was based on either mistaken facts or a misinterpretation of facts or of the law. Therefore, dismissal of the application was issued.

TA-W-57,793; GE Consumer Finance, a division of The General Electric Company, Partnership Marketing Group, Schaumburg, Illinois (November 30, 2005).

Signed at Washington, DC this 7th day of December 2005.
Erica R. Cantor,
Director, Division of Trade Adjustment Assistance.

[FR Doc. E5-7376 Filed 12-14-05; 8:45 am]

BILLING CODE 4510-30-P